DEPARTMENT OF COMMERCE

International Trade Administration

[C-533-874; C-570-059]

Certain Cold-Drawn Mechanical Tubing of Carbon and Alloy Steel From India and the People's Republic of China: Postponement of Preliminary Determinations of Countervailing Duty Investigations

AGENCY: Enforcement and Compliance, International Trade Administration, Department of Commerce.

DATES: Effective June 23, 2017.

FOR FURTHER INFORMATION CONTACT: Ryan Mullen at (202) 482-5620 (India); Mandy Mallott and Alex Rosen, (202) 482-6430 and (202) 482-7814, respectively (the People's Republic of China), AD/CVD Operations, Enforcement and Compliance, International Trade Administration, U.S. Department of Commerce, 1401 Constitution Avenue NW., Washington, DC 20230.

SUPPLEMENTARY INFORMATION:

Background

On May 9, 2017, the Department of Commerce (Department) initiated countervailing duty (CVD) investigations on certain cold-drawn mechanical tubing of carbon and alloy steel (cold-drawn mechanical tubing) from India and the People's Republic of China (PRC).¹ The notice of initiation stated that, in accordance with section 703(b)(1) of the Tariff Act of 1930, as amended (the Act), and 19 CFR 351.205(b)(1), we would issue our preliminary determinations no later than 65 days after the date of initiation, unless postponed.² Currently, the preliminary determinations of these investigations are due no later than July 13, 2017.

¹ See Certain Cold-Drawn Mechanical Tubing of Carbon and Alloy Steel from India and the People's Republic of China: Initiation of Countervailing Duty Investigations, 82 FR 22486 (May 16, 2017).

² Id.

Postponement of Preliminary Determination

Section 703(b)(1) of the Act requires the Department to issue the preliminary determination in a CVD investigation within 65 days after the date on which the Department initiated the investigation. However, if the petitioner makes a timely request for a postponement, section 703(c)(1)(A) of the Act allows the Department to postpone, making the preliminary determination until no later than 130 days after the date on which the Department initiated the investigation.

On June 14, 2017, ArcelorMittal Tubular products, Michigan Seamless Tube, LLC, Plymouth Tube Co. USA, PTC Alliance Corp., Webco Industries, Inc., and Zekelman Industries Inc. (collectively, the petitioners), submitted timely requests pursuant to section 703(c)(1)(A) of the Act and 19 CFR 351.205(e) to postpone the preliminary determinations.³ For the reasons stated above and because there are no compelling reasons to deny the requests, the Department, in accordance with section 703(c)(1)(A) of the Act, is postponing the deadline for the preliminary determinations to no later than 130 days after the day on which the investigations were initiated. Accordingly, the Department will issue the preliminary determinations no later than September 18, 2017.⁴ In accordance with section 705(a)(1) of the Act and 19 CFR 351.210(b)(1), the deadline for the final determinations of these investigations will continue to be 75 days after the date of the preliminary determinations.

³ See Petitioners' Letter re: Certain Mechanical Cold-Drawn Tubing of Carbon and Alloy Steel from India: Request to Postpone Preliminary Determination, dated June 14, 2017 (C-533-874); Petitioners' Letter re: Certain Mechanical Cold-Drawn Tubing of Carbon and Alloy Steel from the People's Republic of China: Request to Postpone Preliminary Determination, dated June 14, 2017 (C-570-059).

⁴ The actual deadline is September 16, 2017, which is a Saturday. The Department's practice dictates that where a deadline falls on a weekend or federal holiday, the appropriate deadline is the next business day. See Notice of Clarification: Application of “Next Business Day” Rule for Administrative Determination Deadlines Pursuant to the Tariff Act of 1930, As Amended, 70 FR 24533 (May 10, 2005).

This notice is issued and published pursuant to section 703(c)(2) of the Act and 19 CFR 351.205(f)(1).

Dated: June 19, 2017.
Gary Taverman,
Deputy Assistant Secretary for Antidumping and Countervailing Duty Operations.

[FR Doc. 2017-13124 Filed 6-22-17; 8:45 am]

BILLING CODE 3510-DS-P